TENNESSEE VALLEY AUTHORITY

Meeting of the TVA Regional Resource Stewardship Council

AGENCY: Tennessee Valley Authority (TVA).

ACTION: Notice of Meeting.

SUMMARY: The TVA Regional Resource Stewardship Council (RRSC) will hold a meeting on March 13 and March 14, 2008, to obtain views and advice on the topic of TVA's Draft Environmental Policy & Framework and TVA's Natural Resources Management Strategy.

The RRSC was established to advise TVA on its natural resource stewardship activities. Notice of this meeting is given under the Federal Advisory Committee Act, 5 U.S.C. App. 2, (FACA).

The meeting agenda includes the following:

(1) TVA Updates.

(2) TVA's Draft Environmental Policy & Framework: Land & Water Stewardship Issues.

(3) External Perspectives on Land & Water Stewardship Activities.

(4) TVA Natural Resources Management Strategy.

(5) Drought Conditions Updates.

(6) Bear Creek Dam Update.

(7) Public Comments.

(8) Council Discussion and Advice.

The TVA Regional Resource Stewardship Council will hear opinions and views of citizens by providing a public comment session. The public comment session will be held at 9:30 a.m., EDT, on Friday, March 14. Persons wishing to speak are requested to register at the door by 9 a.m., EDT, on March 14 and will be called on during the public comment period. Handout materials should be limited to one printed page. Written comments are also invited and may be mailed to the Regional Resource Stewardship Council, Tennessee Valley Authority, 400 West Summit Hill Drive, WT 11B, Knoxville, Tennessee 37902.

DATES: The meeting will be held on Thursday, March 13, 2008, from 8:30 a.m. to 4:45 p.m., EDT, and on Friday, March 14, 2008, from 8:30 a.m. to 12:30 p.m., EDT.

ADDRESSES: The meeting will be held in the Auditorium of the TVA Headquarters at 400 West Summit Hill Drive, Knoxville, Tennessee 37902, and will be open to the public. Anyone needing special access or accommodations should let the contact below know at least a week in advance.

FOR FURTHER INFORMATION CONTACT: Beth Keel, 400 West Summit Hill Drive, WT 11B, Knoxville, Tennessee 37902, (865) 632-6113.

Dated: February 19, 2008.
Peyton T. Hairston, Jr.,
Senior Vice President, Corporate Responsibility & Diversity, Tennessee Valley Authority.

[FR Doc. 08-799 Filed 2-22-08; 8:45 am]

BILLING CODE 8120-08-M